NUCLEAR REGULATORY COMMISSION

[Docket Nos. 50-361 and 50-362; NRC-2013-0083]

Southern California Edison;San Onofre Nuclear Generating Station, Units 2 and 3

AGENCY: Nuclear Regulatory Commission.

ACTION: Director's decision under 10 CFR 2.206; issuance.

SUMMARY: The U.S. Nuclear Regulatory Commission (NRC) has issued a final director's decision with regard to a petition dated June 18, 2012, filed by Mr. Richard Ayres, Counsel for Friends of the Earth (the petitioner), requesting that the NRC take action with regard to Southern California Edison (SCE or the licensee) at the San Onofre Nuclear Generating Station (SONGS). The petitioner's requests and the final director's decision are included in the SUPPLEMENTARY INFORMATION section of this document.

ADDRESSES: Please refer to Docket ID NRC-2013-0083 when contacting the NRC about the availability of information regarding this document. You may obtain publicly-available information related to this document using any of the following methods:

• Federal Rulemaking Web site: Go to http://www.regulations.gov and search for Docket ID NRC-2013-0083. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Thomas Wengert, Office of Nuclear Reactor Regulation, U.S. Nuclear Regulatory Commission, Washington DC 20555-0001; telephone: 301-415-4037, email: Thomas.Wengert@nrc.gov.

SUPPLEMENTARY INFORMATION: Notice is hereby given that the Director, Office of Nuclear Reactor Regulation, has issued a director's decision (ADAMS Accession No. ML15183A164) on a petition filed by the petitioner on June 18, 2012 (ADAMS Accession No. ML12171A409). The petition was supplemented on November 16, 2012, January 16, 2013, and February 6, 2013 (ADAMS Accession Nos. ML12325A748, ML13029A643, and ML13109A075, respectively).

The petitioner requested that the NRC order SCE to submit a license amendment application for the design and installation of the SONGS, Units 2 and 3, replacement steam generators.

As the basis of the request, the petitioner asserted that the licensee violated section 50.59 of Title 10 of the Code of Federal Regulations (10 CFR), “Changes, Tests, and Experiments,” when the steam generators for SONGS, Units 2 and 3, were replaced in 2010 and 2011, without a license amendment request.

On January 16, 2013, the petitioner met with the NRC's Petition Review Board (PRB). The meeting provided the petitioner and the licensee an opportunity to provide additional information and to clarify issues cited in the petition. During the PRB meeting, the petitioner further requested that the NRC suspend SCE's licenses until they are amended. The transcript for that meeting was treated as a supplement to the petition and is available in ADAMS under Accession No. ML13029A643.

The NRC sent a copy of the proposed director's decision to the petitioner and the licensee for comment on February 27, 2015 (ADAMS Accession Nos. ML15020A121 and ML15020A165, respectively). The petitioner and the licensee were asked to provide comments within 30 days on any part of the proposed director's decision that was considered to be erroneous or any issues in the petition that were not addressed. Comments were received from the petitioner and are addressed in an attachment to the final director's decision. The licensee had no comments on the proposed director's decision; however, the licensee did provide a response to the petitioner's comments. The NRC staff reviewed the response from the licensee and determined that, because the licensee's comments are direct rebuttals to the petitioner's comments and raised no concerns with the director's decision, no changes to the director's decision are required as a result of these comments.

The Director of the Office of Nuclear Reactor Regulation has determined that the requests for the NRC to order the licensee to submit a license amendment application for the design and installation of the SONGS, Units 2 and 3, replacement steam generators and to suspend SCE's licenses until they are amended be denied. The reasons for this decision are explained in the director's decision (DD-15-07) pursuant to 10 CFR 2.206, “Requests for action under this subpart,” of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 28 day of July 2015.
For the Nuclear Regulatory Commission.
William M. Dean,
Director, Office of Nuclear Reactor Regulation.

[FR Doc. 2015-19407 Filed 8-6-15; 8:45 am]

BILLING CODE 7590-01-P